DEPARTMENT OF ENERGY

Federal Energy Regulatory Commission

Combined Notice of Filings #1

Take notice that the Commission received the following exempt wholesale generator filings:

Docket Numbers: EG20-205-000.

Applicants: Sanford Airport Solar, LLC.

Description: Notice of Self-Certification of Exempt Wholesale Generator Status of Sanford Airport Solar, LLC.

Filed Date: 7/6/20.

Accession Number: 20200706-5175.

Comments Due: 5 p.m. ET 7/27/20.

Take notice that the Commission received the following electric rate filings:

Docket Numbers: ER20-1395-000.

Applicants: ND OTM LLC.

Description: Third Supplement to March 26, 2020 ND OTM LLC tariff filing.

Filed Date: 7/1/20.

Accession Number: 20200701-5527.

Comments Due: 5 p.m. ET 7/22/20.

Docket Numbers: ER20-1905-001.

Applicants: Southwest Power Pool, Inc.

Description: Tariff Amendment: 3651 Arkansas Electric Cooperative Corp NITSA NOA Amended to be effective 7/1/2020.

Filed Date: 7/7/20.

Accession Number: 20200707-5060.

Comments Due: 5 p.m. ET 7/28/20.

Docket Numbers: ER20-2156-000.

Applicants: Midcontinent Independent System Operator, Inc.

Description: Amendment to June 26, 2020 Request for Waiver Tariff Provisions, et al. of Midcontinent Independent System Operator, Inc.

Filed Date: 7/2/20.

Accession Number: 20200702-5338.

Comments Due: 5 p.m. ET 7/7/20.

Docket Numbers: ER20-2330-000.

Applicants: Midcontinent Independent System Operator, Inc.

Description: Compliance filing: 2020-07-07_SA 2925 ITC Midwest-MEC 1st Rev GIA (J344) to be effective 6/30/2020.

Filed Date: 7/7/20.

Accession Number: 20200707-5027.

Comments Due: 5 p.m. ET 7/28/20.

Docket Numbers: ER20-2331-000.

Applicants: Midcontinent Independent System Operator, Inc.

Description: Compliance filing: 2020-07-07_SA 3511 ITC Midwest-MEC FSA (J344) to be effective 9/6/2020.

Filed Date: 7/7/20.

Accession Number: 20200707-5029.

Comments Due: 5 p.m. ET 7/28/20.

Docket Numbers: ER20-2332-000.

Applicants: Midcontinent Independent System Operator, Inc.

Description: Compliance filing: 2020-07-07 SA 3052 ITC-IPL 1st Rev FCA (J438) to be effective 6/30/2020.

Filed Date: 7/7/20.

Accession Number: 20200707-5032.

Comments Due: 5 p.m. ET 7/28/20.

Docket Numbers: ER20-2333-000.

Applicants: Midcontinent Independent System Operator, Inc.

Description: Compliance filing: 2020-07-07 SA 3523 ITC-IPL FSA (J438) to be effective 6/30/2020.

Filed Date: 7/7/20.

Accession Number: 20200707-5037.

Comments Due: 5 p.m. ET 7/28/20.

Docket Numbers: ER20-2334-000.

Applicants: Southwest Power Pool, Inc.

Description: § 205(d) Rate Filing: Revisions to Establish Zonal Planning Criteria to be effective 9/7/2020.

Filed Date: 7/7/20.

Accession Number: 20200707-5046.

Comments Due: 5 p.m. ET 7/28/20.

Docket Numbers: ER20-2335-000.

Applicants: Idaho Power Company.

Description: Tariff Cancellation: Cancellation of SA 358 to be effective 9/21/2020.

Filed Date: 7/7/20.

Accession Number: 20200707-5118.

Comments Due: 5 p.m. ET 7/28/20.

Docket Numbers: ER20-2336-000.

Applicants: Idaho Power Company.

Description: Tariff Cancellation: Cancellation of SA 365 to be effective 9/7/2020.

Filed Date: 7/7/20.

Accession Number: 20200707-5120.

Comments Due: 5 p.m. ET 7/28/20.

Take notice that the Commission received the following electric securities filings:

Docket Numbers: ES20-48-000.

Applicants: Ameren Illinois Company.

Description: Application Under Section 204 of the Federal Power Act for Authorization to Issue Securities of Ameren Illinois Company.

Filed Date: 7/6/20.

Accession Number: 20200706-5206.

Comments Due: 5 p.m. ET 7/27/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2020.
Nathaniel J. Davis, Sr.,
Deputy Secretary.

[FR Doc. 2020-15041 Filed 7-10-20; 8:45 am]

BILLING CODE 6717-01-P